FEDERAL COMMUNICATIONS COMMISSION

[DA 10-1262]

Consumer Advisory Committee

AGENCY: Federal Communications Commission.

ACTION: Notice.

SUMMARY: The Commission announces the next meeting date and agenda of its Consumer Advisory Committee (“Committee”). The purpose of the Committee is to make recommendations to the Commission regarding consumer issues within the jurisdiction of the Commission and to facilitate the participation of all consumers in proceedings before the Commission.

DATES: The meeting of the Committee will take place on Wednesday August 4, 2010, 2 p.m. to 4 p.m., at the Commission's Headquarters Building, Room 3B516.

ADDRESSES: Federal Communications Commission, 445 12th Street, SW., Washington, DC 20554.

FOR FURTHER INFORMATION CONTACT: Scott Marshall, Consumer and Governmental Affairs Bureau, (202) 418-2809 (voice), (202) 418-0179 (TTY), or e-mail Scott.Marshal@fcc.gov.

SUPPLEMENTARY INFORMATION: This is a summary of the Commission's document DA 10-1262 released July 6, 2010, announcing the agenda, date and time of the Committee's next meeting.

At its August 4, 2010 meeting, the Committee will complete unfinished business from its June 30, 2010 meeting, specifically consideration of two recommendations: One regarding consumer information disclosures to be filed in CG Docket 09-158 and a second regarding the Lifeline and Link-up programs. The Committee may also consider other matters within the jurisdiction of the Commission. A limited amount of time on the agenda will be available for oral comments from the public attending at the meeting site. It is anticipated that out-of-town Committee members will participate via teleconference, with members local to the FCC Headquarters Building participating in person. A limited amount of space in the meeting room will be available for members of the public.

The Committee is organized under, and operates in accordance with, the provisions of the Federal Advisory Committee Act, 5 U.S.C., App. 2 (1988). A notice of each meeting will be published in the Federal Register at least fifteen (15) days in advance of the meeting. Records will be maintained of each meeting and made available for public inspection. Members of the public may send written comments to: Scott Marshall, Designated Federal Officer of the Committee at scott.marshall@fcc.gov.

The meeting site is fully accessible to people using wheelchairs or other mobility aids. Sign language interpreters, open captioning, assistive listening devices, and Braille copies of the agenda and handouts will be provided on site. Other reasonable accommodations for people with disabilities are available upon request. The request should include a detailed description of the accommodation needed and contact information. Please provide as much advance notice as possible; last minute requests will be accepted, but may be impossible to fill. Send an e-mail to fcc504@fcc.gov or call the Consumer and Governmental Affairs Bureau at 202-418-0530 (voice), 202-418-0432 (TTY).

Federal Communications Commission.
Joel Gurin,
Chief, Consumer and Governmental Affairs Bureau.

[FR Doc. 2010-17570 Filed 7-16-10; 8:45 am]

BILLING CODE 6712-01-P